DEPARTMENT OF COMMERCE

National Oceanic and Atmospheric Administration

RIN 0648-XP18

Marine Mammals; File No. 14334

AGENCY: National Marine Fisheries Service (NMFS), National Oceanic and Atmospheric Administration (NOAA), Commerce.

ACTION: Notice; receipt of application for permit amendment.

SUMMARY: Notice is hereby given that the Alaska SeaLife Center (ASLC), 301 Railway Avenue, Seward, AK 99664 (Dr. Ian Dutton, Responsible Party), has applied for an amendment to Scientific Research Permit No. 14334-01.

DATES: Written, telefaxed, or emailed comments must be received on or before December 22, 2011.

ADDRESSES: The application and related documents are available for review by selecting “Records Open for Public Comment” from the Features box on the Applications and Permits for Protected Species home page, https://apps.nmfs.noaa.gov, and then selecting File No. 14334 from the list of available applications.

These documents are also available upon written request or by appointment in the following office(s):

Permits, Conservation and Education Division, Office of Protected Resources, NMFS, 1315 East-West Highway, Room 13705, Silver Spring, MD 20910; phone (301) 427-8401; fax (301) 713-0376; and

Alaska Region, NMFS, P.O. Box 21668, Juneau, AK 99802-1668; phone (907) 586-7221; fax (907) 586-7249.

Written comments on this application should be submitted to the Chief, Permits, Conservation and Education Division, at the address listed above. Comments may also be submitted by facsimile to (301) 713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Amy Sloan or Tammy Adams, (301) 713-2289.

SUPPLEMENTARY INFORMATION: The subject amendment to Permit No. 14334-01 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Permit No. 14334-01, issued on March 21, 2011 (76 FR 18724), authorizes the permit holder to investigate reproductive physiology of adult Steller sea lions (Eumetopias jubatus; permanently captive, eastern stock) and survival, growth, and physiology of captive-bred offspring. They may also deploy biotelemetry instruments on the captives to develop and validate methods for monitoring wild Steller sea lions. The permit authorizes four mortalities of captive animals over the duration of the permit and two mortalities have occurred to date. The permit expires on August 31, 2014.

The permit holder is requesting the permit be amended to allow for the following: (1) The addition of a respiratory stimulant drug administered prior to anesthesia (in addition to during anesthesia, as currently permitted) to mitigate breath holding and decreased heart rate; (2) an increase in the number of pups/juveniles authorized for research from six to nine, to allow for an increased sample size for the permitted research due to acquisition of three new females in the breeding program; (3) the use of additional fecal markers (berries, rice, food coloring, and sesame seeds) to provide individually identifiable fecal samples for hormone analysis; (4) administration of deuterium oxide via a gastric tube followed by serial blood sampling to assess energy transfer from mother to pup during nursing; (5) the addition of a second male (currently a juvenile at ASLC) for breeding purposes; and (6) two additional mortalities of captive sea lions for the duration of the permit.

In compliance with the National Environmental Policy Act of 1969 (42 U.S.C. 4321 et seq.), an initial determination has been made that the activities proposed are consistent with the Preferred Alternative in the Final Programmatic Environmental Impact Statement for Steller Sea Lion and Northern Fur Seal Research (NMFS 2007), and that issuance of the permit would not have a significant adverse impact on the human environment.

Concurrent with the publication of this notice in the Federal Register, NMFS is forwarding copies of this application to the Marine Mammal Commission and its Committee of Scientific Advisors.

Dated: November 14, 2011.
P. Michael Payne,
Chief, Permits, Conservation and Education Division, Office of Protected Resources, National Marine Fisheries Service.

[FR Doc. 2011-30154 Filed 11-21-11; 8:45 am]

BILLING CODE 3510-22-P